DEPARTMENT OF LABOR

Employment and Training Administration

[TA-W-41,160]

MK Gold Company, Searchlight, Nevada; Notice of Termination of Investigation

Pursuant to Section 221 of the Trade Act of 1974, an investigation was initiated on March 25, 2002 in response to a worker petition which was filed on behalf of workers at MK Gold Company, Searchlight, Nevada.

An active certification covering the petitioning group of workers is already in effect (TA-W-39,592, as amended). Consequently, further investigation in this case would serve no purpose, and the investigation has been terminated.

Signed in Washington, DC, this 23rd day of April, 2002.
Linda G. Poole,
Certifying Officer, Division of Trade Adjustment Assistance.

[FR Doc. 02-15853 Filed 6-21-02; 8:45 am]

BILLING CODE 4510-30-P